DEPARTMENT OF LABOR

Employment and Training Administration

Investigations Regarding Certifications of Eligibility to Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 13, 2000.

Interested persons are invited to submit written comments regarding the subject matter of the investigations to the Director, Division of Trade Adjustment Assistance, at the address shown below, not later than November 13, 2000.

The petitions filed in this case are available for inspection at the Office of the Director, Division of Trade Adjustment Assistance, Employment and Training Administration, U.S. Department of Labor, Room C-5311, 200 Constitution Avenue, NW., Washington, DC 20210.

Signed at Washington, D.C. this 23rd day of October, 2000.
Edward A. Tomchick,
Director, Division of Trade Adjustment Assistance.

Appendix
[Petitions instituted on 10/23/2000]
TA-W | Subject firm (petitioners) | Location | Date of petition | Product(s)
38,227 | Vulcan Materials Co (Co.) | Attalla, AL | 10/11/2000 | Slag.
38,228 | Initial Security (Wrks) | Portland, OR | 09/27/2000 | Provides Security.
38,229 | Dana Engine Controls (Wkrs) | Branford, CT | 10/05/2000 | Packaging, Bar Coding and Shipment.
38,230 | Leeds and Northrup (Wkrs) | Ellwood City, PA | 10/01/2000 | Oven Temperature Sensors.
38,231 | SI Cutting Services (Wkrs) | Opalocks, FL | 10/04/2000 | Fabric Cutting.
38,232 | Carolina Shoe Co (Wkrs) | Morganton, NC | 10/04/2000 | Men and Ladies' Footwear.
38,233 | Konica Imaging Int'l (Wkrs) | Glen Cove, NY | 10/11/2000 | Film Manufacturing.
38,234 | North Side Manufacturing (Co.) | Philipsburg, PA | 10/06/2000 | Men's Suit Jackets.
38,235 | Universal Auto Radiator (Co.) | Pittsburg, PA | 10/10/2000 | Automobile Radiators.
38,236 | PACE Industries Puget Div (IAMAW) | Fircrest, WA | 10/06/2000 | Aluminum Die Castings.
38,237 | Steag Hamatech (Co.) | Saco, ME | 10/17/2000 | Original Equipment for Compact Disc.
38,238 | Royal Oak Enterprises (Wkrs) | Paris, AR | 10/05/2000 | Charcoal.
38,239 | Airtherm Manufacturing (Wkrs) | St. Louis, MO | 10/01/2000 | Central Air Distribution Systems.
38,240 | Ashby Industries (Co.) | Martinsville, VA | 09/30/2000 | Textile Machinery.
38,241 | Micromatic Textron (UAW) | Holland, MI | 10/10/2000 | Honing Machines.
38,242 | Homestake Mining Co. (USWA) | Lead, SD | 10/09/2000 | Gold.
38,243 | Color Tex International (Wkrs) | Salisbury, NC | 10/04/2000 | Dyed and Finished Woven Goods.
38,244 | Handy Girl LLC (Wkrs) | Deer Park, MD | 10/10/2000 | Girl's Apparel.
38,245 | Leapwood Apparel (Wkrs) | Adamsville, TN | 10/11/2000 | Knit Shirts.
38,246 | Jakel, Inc (Wkrs) | East Prairie, MO | 10/13/2000 | Small Electrical Motors.
38,247 | North Powder Lumber (Wkrs) | North Powder, OR | 10/02/2000 | Lumber.

[FR Doc. 00-28240 Filed 11-2-00; 8:45 am]

BILLING CODE 4510-30-M